FEDERAL RESERVE SYSTEM

Formations of, Acquisitions by, and Mergers of Savings and Loan Holding Companies

The companies listed in this notice have applied to the Board for approval, pursuant to the Home Owners' Loan Act (12 U.S.C. 1461 et seq.) (HOLA), Regulation LL (12 CFR part 238), and Regulation MM (12 CFR part 239), and all other applicable statutes and regulations to become a savings and loan holding company and/or to acquire the assets or the ownership of, control of, or the power to vote shares of a savings association and nonbanking companies owned by the savings and loan holding company, including the companies listed below.

The applications listed below, as well as other related filings required by the Board, are available for immediate inspection at the Federal Reserve Bank indicated. The application also will be available for inspection at the offices of the Board of Governors. Interested persons may express their views in writing on the standards enumerated in the HOLA (12 U.S.C. 1467a(e)). If the proposal also involves the acquisition of a nonbanking company, the review also includes whether the acquisition of the nonbanking company complies with the standards in section 10(c)(4)(B) of the HOLA (12 U.S.C. 1467a(c)(4)(B)). Unless otherwise noted, nonbanking activities will be conducted throughout the United States.

Unless otherwise noted, comments regarding each of these applications must be received at the Reserve Bank indicated or the offices of the Board of Governors not later than September 2, 2016.

A. Federal Reserve Bank of Boston (Prabal Chakrabarti, Senior Vice President) 600 Atlantic Avenue, Boston, Massachusetts 02210-2204. Comments can also be sent electronically to BOS.SRC.Applications.Comments@bos.frb.org:

1. Westfield Financial, Inc., Westfield, Massachusetts (“Westfield”); to become a savings and loan holding company. Westfield currently is a savings and loan holding company; Westfield proposes to become a bank holding company for a moment in time by merging with Chicopee Bancorp, Chicopee, Massachusetts and acquire its subsidiary bank, Chicopee Savings Bank, Chicopee, Massachusetts. Westfield also has applied to retain its savings association, Westfield Bank, Westfield, Massachusetts. After the acquisition, Westfield proposes to merge Chicopee Savings Bank with Westfield Bank, with Westfield Bank as the surviving entity, and become a savings and loan holding company. Westfield also proposes to acquire Chicopee Funding Corporation, which provides funding to Chicopee and its affiliates, pursuant to section 238.54 of Regulation LL.

Board of Governors of the Federal Reserve System, August 4, 2016.
Michele T. Fennell,
Assistant Secretary of the Board.

[FR Doc. 2016-18856 Filed 8-8-16; 8:45 am]

BILLING CODE 6210-01-P